DEPARTMENT OF DEFENSE

Defense Acquisition Regulations System

[OMB Control Number 0704-0386]

Information Collection Requirement; Defense Federal Acquisition Regulation Supplement; Small Business Programs

AGENCY: Defense Acquisition Regulations System, Department of Defense (DoD).

ACTION: Notice and request for comments regarding a proposed extension of an approved information collection requirement.

SUMMARY: In compliance with section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through March 31, 2008. DoD proposes that OMB extend its approval for use for three additional years.

DATES: DoD will consider all comments received by November 26, 2007.

ADDRESSES: You may submit comments, identified by OMB Control Number 0704-0386, using any of the following methods:

• Federal eRulemaking Portal: http://www.regulations.gov. Follow the instructions for submitting comments.

• E-mail: dfars@osd.mil. Include OMB Control Number 0704-0386 in the subject line of the message.

• Fax: 703-602-7887.

• Mail: Defense Acquisition Regulations System, Attn: Ms. Deborah Tronic, OUSD (AT&L) DPAP (DARS), IMD 3D139, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Ms. Deborah Tronic, 703-602-0289. The information collection requirements addressed in this notice are available on the World Wide Web at: http://www.acq.osd.mil/dpap/dars/dfars/index.htm. Paper copies are available from Ms. Deborah Tronic, OUSD (AT&L) DPAP (DARS), IMD 3D139, 3062 Defense Pentagon, Washington, DC 20301-3062.

SUPPLEMENTARY INFORMATION: Title and OMB Number: Defense Federal Acquisition Regulation Supplement (DFARS) Part 219, Small Business Programs, and the clause at DFARS 252.219-7003; OMB Control Number 0704-0386.

Needs and Uses: DoD uses this information in assessing contractor compliance with small business subcontracting plans.

Affected Public: Businesses or other for-profit and not-for-profit institutions.

Annual Burden Hours: 41.

Number of Respondents: 41.

Responses per Respondent: 1.

Annual Responses: 41.

Average Burden per Response: 1 hour.

Frequency: On occasion.

Summary of Information Collection

DFARS 219.704 and the clause at DFARS 252.219-7003, Small Business Subcontracting Plan (DoD Contracts), require large business prime contractors to notify the administrative contracting officer when a firm that is not a small business is substituted for a small business that is specifically identified in a subcontracting plan. Notifications must be in writing and may be submitted in a contractor-specified format.

Michele P. Peterson,
Editor, Defense Acquisition Regulations System.

[FR Doc. E7-19002 Filed 9-25-07; 8:45 am]

BILLING CODE 5001-08-P